DEPARTMENT OF EDUCATION

Application for New Awards; CSP Grants for National Leadership Activities

AGENCY: Office of Innovation and Improvement, Department of Education.

ACTION: Notice.

Overview Information: CSP Grants for National Leadership Activities Notice inviting applications for new awards for fiscal year (FY) 2015.

Catalog of Federal Domestic Assistance (CFDA) Number: 84.282N.

DATES:

Applications Available: July 14, 2014.

Date of Pre-Application Webinar: July 22, 2014, 1:00 p.m. to 3:00 p.m., Washington, DC time.

Deadline for Transmittal of Applications: September 12, 2014.

Full Text of Announcement

I. Funding Opportunity Description

Purpose of Program: The purpose of the CSP is to increase national understanding of the charter school model by—

(1) Providing financial assistance for the planning, program design, and initial implementation of charter schools;

(2) Evaluating the effects of charter schools, including the effects on students, student academic achievement, staff, and parents;

(3) Expanding the number of high-quality charter schools available to students across the Nation; and

(4) Encouraging the States to provide support to charter schools for facilities financing in an amount that is more commensurate with the amount the States have typically provided for non-chartered public schools.

The purpose of the CSP Grants for National Leadership Activities competition is to support efforts by eligible entities to improve the quality of charter schools by providing technical assistance and other types of support on issues of national significance and scope.

Priorities: This notice includes two absolute priorities, two competitive preference priorities, and one invitational priority. The absolute, competitive preference, and invitational priorities are from the notice of final priorities, requirements, and definitions for this program published elsewhere in this issue of the Federal Register.

Absolute Priorities: For FY 2015 and any subsequent year in which we make awards based on the list of unfunded applicants from this competition, these priorities are absolute priorities. Under 34 CFR 75.105(c)(3) we consider only applications that meet one of these two absolute priorities.

Note: Under the CSP Grants for National Leadership Activities competition, each of the two absolute priorities constitutes its own funding category. The Secretary intends to award grants under each absolute priority for which applications of sufficient quality are submitted.

An applicant for a CSP Grants for National Leadership Activities grant must choose one of the absolute priorities and cannot submit an application under multiple absolute priorities; an applicant must clearly indicate in its application the priority under which it is applying.

The absolute priorities are:

Absolute Priority 1—Improving Efficiency through Economies of Scale.

This priority is for projects of national significance and scope that promote shared systems for acquiring goods or services to achieve efficiencies in the use of time, staff, money, services for special populations, or other resources for the purpose of creating, supporting, and sustaining high-quality charter schools (as defined in this notice).

An applicant addressing this priority must apply as part of an existing or proposed partnership or consortium that includes two or more high-quality charter schools, as defined in this notice, and must include detailed descriptions (including supporting documentation) of the following:

(1) The proposed project activities of the partnership or consortium and how and to what extent the activities will achieve efficiencies in the use of time, staff, money, services for special populations, or other resources related to operating charter schools;

(2) The members or proposed members of the partnership or consortium, how the composition of this partnership or consortium contributes to achieving efficiencies, and the specific activities each member or proposed member will implement. Applicants must demonstrate that members of the existing or proposed partnership or consortium are not affiliated exclusively with a common network (e.g., a charter management organization);

(3) How the proposed project activities will help create charter schools that demonstrate the capacity to become high-quality charter schools, support new charter schools to become high-quality charter schools, and sustain charter schools that are high-quality;

(4) How information about the proposed project activities will be disseminated primarily to charter schools as the chief stakeholder group, and secondarily to other stakeholders, such as charter school support organizations, LEAs, and authorized public chartering agencies, as appropriate, at the charter school national level (as defined in this notice);

(5) How the dissemination strategy will include assembling a community of practice (as defined in this notice) for the stakeholder group(s) served; and

(6) The national significance of the proposed project.

Absolute Priority 2—Improving Accountability.

This priority is for projects of national significance and scope that are designed to improve authorized public chartering agencies' capacity to conduct rigorous application reviews; monitor and oversee charter schools using multiple sources of data, including disaggregated student data, and measurable performance goals; close underperforming schools; replicate and expand high-performing schools; maintain a portfolio of high-quality charter schools; and evaluate and disseminate information on the performance of charter schools.

Applicants addressing this priority must provide detailed descriptions (including supporting documentation) of the following:

(1) How the proposed project will improve at the regional level (as defined in this notice) or the national level (as defined in this notice), authorized public chartering agencies' capacity to:

i. Approve only applications that demonstrate capacity to create and sustain high-quality charter schools (as defined in this notice) and meet the standards of a rigorous application process and review;

ii. Monitor and oversee charter schools through measurable performance goals and multiple sources of regularly collected academic and operational performance data (using financial data, disaggregated student discipline data, and disaggregated student performance data, including metrics to assess educational equity for students with disabilities, English learners, and other students in need of specialized services);

iii. Identify schools eligible for renewal and those that should be closed, through clear renewal and revocation criteria; and

iv. Evaluate authorizer and portfolio performance and disseminate information on that performance;

(2) The applicant's prior success in improving, at the regional level (as defined in this notice) or the national level (as defined in this notice), authorized public chartering agencies' capacity to:

i. Approve only applications that demonstrate the capacity to create and sustain high-quality charter schools (as defined in this notice) and meet the standards of a rigorous application process and review;

ii. Monitor and oversee charter schools through measurable performance goals and multiple sources of regularly collected academic and operational performance data (using financial data, disaggregated student discipline data, and disaggregated student performance data, including metrics to assess educational equity for students with disabilities, English learners, and other students in need of specialized services);

iii. Identify schools eligible for renewal and those that should be closed, through clear renewal and revocation criteria; and

iv. Evaluate authorizer and portfolio performance and disseminate information on that performance;

(3) How dissemination activities focus on authorized public chartering agencies as the primary stakeholder group, and secondarily on other stakeholders, such as charter school support organizations or charter schools, as appropriate, at the charter school national level (as defined in this notice);

(4) How the dissemination strategy will include assembling a community of practice (as defined in this notice) for the stakeholder group(s) served; and

(5) The national significance of the proposed project.

Competitive Preference Priorities: For FY 2015 and any subsequent year in which we make awards based on the list of unfunded applicants from this competition, these priorities are competitive preference priorities. Under 34 CFR 75.105(c)(2)(i) we will award up to an additional five points to an application that addresses Competitive Preference Priority 1 and up to an additional five points to an application that addresses Competitive Preference Priority 2, depending on how well the application addresses each of the priorities. The maximum total competitive preference points an application can receive for this competition is 10.

Note: In order to receive preference under these competitive preference priorities, the applicant must identify the priority or priorities that it is addressing and provide documentation supporting that the identified competitive preference priority or priorities are met.

These priorities are:

Competitive Preference Priority 1—Students with Disabilities. (Up to 5 points)

This priority is for projects of national significance and scope that are designed to increase equitable access to charter schools for students with disabilities and increase charter schools' enrollment of students with disabilities, as well as improve achievement (including student achievement and student growth) and attainment (including high school graduation rates and college enrollment rates) for students with disabilities in charter schools, through one or more of the following activities:

(1) Developing strategies and tools to increase equitable access to charter schools for students with disabilities and increase charter schools' capacity to recruit, enroll, and serve students with disabilities, and improve student achievement, including student growth, and attainment (e.g., high school graduation rates, college enrollment rates) for students with disabilities.

(2) Disseminating promising practices for increasing equitable access to charter schools for students with disabilities; increasing charter schools' capacity to recruit, enroll, and serve students with disabilities; and improving student achievement, including student growth, and attainment (e.g., high school graduation rates, college enrollment rates) for students with disabilities.

(3) Promoting collaborative activities between charter schools, non-chartered public schools, and key special education stakeholders designed to improve student achievement, including student growth, and attainment (e.g., high school graduation rates, college enrollment rates) for students with disabilities.

Competitive Preference Priority 2—English Learners. (Up to 5 points)

This priority is for projects of national significance and scope that are designed to increase equitable access to charter schools for English learners and increase charter schools' enrollment of English learners, as well as improve academic achievement (including student achievement and student growth) and attainment (including English proficiency, high school graduation rates, and college enrollment rates) for English learners, through one or more of the following activities:

(1) Developing strategies and tools to increase equitable access to charter schools for English learners; increase charter schools' capacity to recruit, enroll, and serve English learners; and improve student achievement, including student growth and English proficiency, and attainment (e.g., high school graduation rates, college enrollment rates) for English learners.

(2) Disseminating promising practices for increasing equitable access to charter schools for English learners; increasing charter schools' capacity to recruit, enroll, and serve English learners; and improving student achievement, including student growth and English proficiency, and attainment (e.g., high school graduation rates, college enrollment rates) for English learners.

(3) Promoting collaborative activities between charter schools, non-chartered public schools, and key English learner stakeholders designed to improve student achievement, including student growth and English proficiency, and attainment (e.g., high school graduation rates, college enrollment rates) for English learners.

Invitational Priority: For FY 2015 and any subsequent year in which we make awards from the list of unfunded applicants from this competition, this priority is an invitational priority. Under 34 CFR 75.105(c)(1) we do not give an application that meets this invitational priority any preference over other applications.

Invitational Priority—Personalized Technology-Enabled Learning.

This priority is for projects of national significance and scope that are designed to improve achievement and attainment outcomes for high-need students (as defined in this notice) through the development and implementation in charter schools of technology-enabled instructional models, tools, and supports that personalize learning.

Application Requirements:

The following requirement, which is from the notice of final priorities, requirements, and definitions, for this program, published elsewhere in this issue of the Federal Register, applies to the competition announced in this notice.

Requirement: An applicant for a CSP Grants for National Leadership Activities grant must provide a logic model (as defined in this notice) supporting its project.

Definitions: The following definitions are from the notice of final priorities, requirements, definitions, and selection criteria for this program published elsewhere in this issue of the Federal Register, from the notice of final supplemental priorities and definitions for discretionary grant programs published in the Federal Register on December 15, 2010 (75 FR 78486) and corrected on May 12, 2011 (76 FR 27637), and from 34 CFR 77.1.

Ambitious means promoting continued, meaningful improvement for program participants or for other individuals or entities affected by the grant, or representing a significant advancement in the field of education research, practices, or methodologies. When used to describe a performance target, whether a performance target is ambitious depends upon the context of the relevant performance measure and the baseline (as defined in this notice) for that measure (as defined in 34 CFR 77.1(c)).

Baseline means the starting point from which performance is measured and targets are set (as defined in 34 CFR 77.1(c)).

Charter school national level means, with respect to an applicant's dissemination strategy, that the strategy covers a wide variety of charter schools, authorized public chartering agencies, charter support organizations, and other stakeholder groups within multiple States across the country, including rural and urban areas.

Community of practice means a group of stakeholders that interacts regularly to solve a persistent problem or to improve practice in an area that is important to them and the success of the grant project.

Evidence of promise means there is empirical evidence to support the theoretical linkage(s) between at least one critical component and at least one relevant outcome presented in the logic model for the proposed process, product, strategy, or practice.

Specifically, evidence of promise means the conditions in paragraphs (i) and (ii) of this section are met:

(i) There is at least one study that is a—

(A) Correlational study with statistical controls for selection bias;

(B) Quasi-experimental study that meets the What Works Clearinghouse Evidence Standards with reservations;¹ or

¹ What Works Clearinghouse Procedures and Standards Handbook (Version 2.1, September 2011), which can be currently found at the following link: http://ies.ed.gov/ncee/wwc/DocumentSum.aspx?sid=19.

(C) Randomized controlled trial that meets the What Work Clearinghouse Evidence Standards with or without reservations.²

² What Works Clearinghouse Procedures and Standards Handbook (Version 2.1, September 2011), which can be currently found at the following link: http://ies.ed.gov/ncee/wwc/DocumentSum.aspx?sid=19.

(ii) The study referenced in paragraph (i) found a statistically significant or substantively important (defined as a difference of 0.25 standard deviations or larger), favorable association between at least one critical component and one relevant outcome presented in the logic model for the proposed process, product, strategy, or practice (as defined in 34 CFR 77.1(c)).

Graduation rate means a four-year adjusted cohort graduation rate consistent with 34 CFR 200.19(b)(1) and may also include an extended-year adjusted cohort graduation rate consistent with 34 CFR 200.19(b)(1)(v) if the State in which the proposed project is implemented has been approved by the Secretary to use such a rate under Title I of the Elementary and Secondary Education Act of 1965, as amended (ESEA).

High-need students means children and students at risk of educational failure, such as children and students who are living in poverty, who are English Learners, who are far below grade level or who are not on track to becoming college- or career-ready by graduation, who have left school or college before receiving, respectively, a regular high school diploma or a college degree or certificate, who are at risk of not graduating with a diploma on time, who are homeless, who are in foster care, who are pregnant or parenting teenagers, who have been incarcerated, who are new immigrants, who are migrant, or who have disabilities.

High-quality charter school means—

(a) A school that shows evidence of strong academic results for the past three years (or over the life of the school, if the school has been open for fewer than three years), based on the following factors:

(1) Increased student academic achievement and attainment (including, if applicable, high school graduation rates and college and other postsecondary enrollment rates) for all students, including, as applicable, educationally disadvantaged students served by the charter school;

(2) Either:

(i) Demonstrated success in closing historic achievement gaps for the subgroups of students described in section 1111(b)(2)(C)(v)(II)of the ESEA (20 U.S.C. 6311) at the charter school; or

(ii) No significant achievement gaps between any of the subgroups of students described in section 1111 (b)(2)(C)(v)(II) of the ESEA (20 U.S.C. 6311) at the charter school and significant gains in student academic achievement for all populations of students served by the charter school;

(3) Results (including, if applicable and available, performance on statewide tests, annual student attendance and retention rates, high school graduation rates, college and other postsecondary attendance rates, and college and other postsecondary persistence rates) for low-income and other educationally disadvantaged students served by the charter school that are above the average academic achievement results for such students in the State;

(4) Positive results on a performance framework established by the State or authorized public chartering agency for purposes of evaluating charter school quality; and

(5) No significant compliance issues (as defined in this notice), particularly in the areas of student safety, financial management, and equitable and nondiscriminatory treatment for students; or

(b) A high-quality charter school as defined by the State, provided that the State's definition is at least as rigorous as paragraph (a).

Logic model (also referred to as theory of action) means a well-specified conceptual framework that identifies key components of the proposed process, product, strategy, or practice (i.e., the active “ingredients” that are hypothesized to be critical to achieving the relevant outcomes) and describes the relationships among the key components and outcomes, theoretically and operationally (as defined in 34 CFR 77.1(c)).

National level describes the level of scope or effectiveness of a process, product, strategy, or practice that is able to be effective in a wide variety of communities, including rural and urban areas, as well as with different groups (e.g., economically disadvantaged, racial and ethnic groups, migrant populations, individuals with disabilities, English learners, and individuals of each gender) (as defined in 34 CFR 77.1(c)).

Performance measure means any quantitative indicator, statistic, or metric used to gauge program or project performance (as defined in 34 CFR 77.1(c)).

Performance target means a level of performance that an applicant would seek to meet during the course of a project or as a result of a project (as defined in 34 CFR 77.1(c)).

Quasi-experimental design study means a study using a design that attempts to approximate an experimental design by identifying a comparison group that is similar to the treatment group in important respects. These studies, depending on design and implementation, can meet What Works Clearinghouse Evidence Standards with reservations ³ (they cannot meet What Works Clearinghouse Evidence Standards without reservations) (as defined in 34 CFR 77.1(c)).

³ What Works Clearinghouse Procedures and Standards Handbook (Version 2.1, September 2011), which can be currently found at the following link: http://ies.ed.gov/ncee/wwc/DocumentSum.aspx?sid=19.

Randomized controlled trial means a study that employs random assignment of, for example, students, teachers, classrooms, schools, or districts to receive the intervention being evaluated (the treatment group) or not to receive the intervention (the control group). The estimated effectiveness of the intervention is the difference between the average outcome for the treatment group and for the control group. These studies, depending on design and implementation, can meet What Works Clearinghouse Evidence Standards without reservations (as defined in 34 CFR 77.1(c)).⁴

⁴ What Works Clearinghouse Procedures and Standards Handbook (Version 2.1, September 2011), which can be currently found at the following link: http://ies.ed.gov/ncee/wwc/DocumentSum.aspx?sid=19.

Relevant outcome means the student outcome(s) (or the ultimate outcome if not related to students) the proposed process, product, strategy, or practice is designed to improve; consistent with the specific goals of a program (as defined in 34 CFR 77.1(c)).

Regional level describes the level of scope or effectiveness of a process, product, strategy, or practice that is able to serve a variety of communities within a State or multiple States, including rural and urban areas, as well as with different groups (e.g., economically disadvantaged, racial and ethnic groups, migrant populations, individuals with disabilities, English learners, and individuals of each gender). For an LEA-based project, to be considered a regional-level project, a process, product, strategy, or practice must serve students in more than one LEA, unless the process, product, strategy, or practice is implemented in a State in which the State educational agency is the sole educational agency for all schools (as defined in 34 CFR 77.1(c)).

Significant compliance issue means a violation that did, will, or could (if not addressed or if it represents a pattern of repeated misconduct or material non-compliance) lead to the revocation of a school's charter.

Strong theory means a rationale for the proposed process, product, strategy, or practice that includes a logic model (as defined in 34 CFR 77.1(c)).

Student achievement means—

(a) For tested grades and subjects—

(1) A student's score on the State's assessments under the ESEA; and, as appropriate,

(2) Other measures of student learning, such as those described in paragraph (b) of this definition, provided they are rigorous and comparable across schools.

(b) For non-tested grades and subjects: Alternative measures of student learning and performance, such as student scores on pre-tests and end-of-course tests; student performance on English language proficiency assessments; and other measures of student achievement that are rigorous and comparable across schools.

Student growth means the change in achievement data for an individual student between two or more points in time. Growth may also include other measures that are rigorous and comparable across classrooms.

Program Authority: 20 U.S.C. 7221-7221j.

Applicable Regulations: (a) The Education Department General Administrative Regulations (EDGAR) in 34 CFR parts 74, 75, 76, 77, 79, 80, 81, 82, 84, 86, 97, 98, and 99. (b) The Education Department debarment and suspension regulations in 2 CFR part 3485. (c) The notice of final priorities, requirements, definitions, and selection criteria for this program published elsewhere in this issue of the Federal Register. (d) The notice of final supplemental priorities and definitions for discretionary grant programs, published in the Federal Register on December 15, 2010 (75 FR 78486) and corrected on May 12, 2011 (76 FR 27637).

Note 1: The regulations in 34 CFR part 79 apply to all applicants except federally recognized Indian tribes.

Note 2: The regulations in 34 CFR part 86 apply only to institutions of higher education.

Note 3: The regulations in 34 CFR part 99 apply only to an educational agency or institution.

II. Award Information

Type of Award: Discretionary grants.

Estimated Available Funds: $4,000,000.

The actual level of funding, if any, depends on final congressional action. However, we are inviting applications now to allow enough time to complete the grant process early in FY 2015, if Congress appropriates funds for this program. Contingent on the availability of funds and the quality of applications, we may make additional awards in subsequent years from the list of unfunded applicants from this competition.

Estimated Range of Awards: $500,000-800,000 per year.

Estimated Average Size of Awards: $650,000 per year.

Estimated Number of Awards: 5-8.

Note: The Department is not bound by any estimates in this notice. The estimated range, average size, and number of awards are based on a single 12-month budget period. However, the Department may choose to fund more than 12 months of a project using FY 2015 funds.

Project Period: Up to 36 months.

III. Eligibility Information

1. Eligible Applicants: Eligible applicants include (1) State educational agencies (SEAs) in States with a State statute specifically authorizing the establishment of charter schools; (2) authorized public chartering agencies; (3) public and private nonprofit organizations with a mission that explicitly includes operating, supporting, or managing charter schools; and (4) public and private nonprofit organizations in partnership with an SEA, authorized public chartering agency, or a public or private nonprofit organization with a mission that explicitly includes supporting charter schools. Eligible applicants may apply as a partnership or consortium and, if so applying, must comply with the requirements for group applications set forth in 34 CFR 75.127-75.129.

Eligible applicants that are charter schools may not have any significant compliance issues (as defined in this notice), including in the areas of student safety, financial management, civil rights, and statutory or regulatory compliance. In addition, to the extent that eligible applicants that are partnerships or consortia include charter schools, the lead applicant, each charter school operated or managed by the lead applicant and all partnership or consortium members, including, in the case of a charter management organization applicant (CMO), all charter schools managed by the CMO, must meet the definition of high-quality charter school (as defined in this notice).

2. Cost Sharing or Matching: This competition does not require cost sharing or matching.

IV. Application and Submission Information

1. Address to Request Application Package: Brian Martin, U.S. Department of Education, 400 Maryland Avenue SW., Room 4W224, Washington, DC 20202-5970. Telephone: (202) 205-9085 or by email: brian.martin@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2.a. Content and Form of Application Submission: Requirements concerning the content of an application, together with the forms you must submit, are in the application package for this competition. Page Limit: The application narrative (Part III of the application) is where you, the applicant, address the selection criteria that reviewers use to evaluate your application. We recommend that you limit the application narrative [Part III] to no more than 60 pages, using the following standards:

• A “page” is 8.5″ x 11″ , on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section [Part III].

b. Submission of Proprietary Information:

Given the types of projects that may be proposed in applications for the CSP Grants for National Leadership Activities competition, an application may include business information that the applicant considers proprietary. The Department's regulations define “business information” in 34 CFR 5.11.

Because we plan to make successful applications available to the public, you may wish to request confidentiality of business information.

Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times:

Applications Available: July 14, 2014.

Date of Pre-Application Meeting: The Department will hold a pre-application meeting via Webinar for prospective applicants on July 22, 2014, from 1:00 p.m. to 3:00 p.m., Washington, DC, time. Individuals interested in attending this meeting are encouraged to pre-register by emailing their name, organization, and contact information with the subject heading “PRE-APPLICATION MEETING” to CharterSchools@ed.gov. There is no registration fee for attending this meeting.

For further information about the pre-application meeting, contact Brian Martin, U.S. Department of Education, 400 Maryland Avenue SW., Room 4W224, Washington, DC 20202-5970. Telephone: (202) 205-9085 or by email: brian.martin@ed.gov.

Deadline for Transmittal of Applications: September 12, 2014.

Applications for grants under this competition must be submitted electronically using the Grants.gov apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: October 27, 2014.

4. Intergovernmental Review: This program is subject to Executive Order 12372 and the regulations in 34 CFR part 79. Information about Intergovernmental Review of Federal Programs under Executive Order 12372 is in the application package for this competition.

5. Funding Restrictions: We reference additional regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements. Applications for grants under this competition must be submitted electronically unless you qualify for an exception to this requirement in accordance with the instructions in this section.

a. Electronic Submission of Applications.

Applications for grants under the CSP Grants for National Leadership Activities competition, CFDA number 84.282N must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the CSP Grants for National Leadership Activities competition at www.Grants.gov. You must search for the downloadable application package for this competition by the CFDA number. Do not include the CFDA number's alpha suffix in your search (e.g., search for 84.282, not 84.282N).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page. In addition, for specific guidance and procedures for submitting an application through Grants.gov, please refer to the Grants.gov Web site at: www.grants.gov/web/grants/applicants/apply-for-grants.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a .PDF (Portable Document) read-only, non-modifiable format. Do not upload an interactive or fillable PDF file. If you upload a file type other than a read-only, non-modifiable .PDF or submit a password-protected file, we will not review that material.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors. You will be given an opportunity to correct any errors and resubmit, but you must still meet the deadline for submission of applications.

Once your application is successfully validated by Grants.gov, the Department will retrieve your application from Grants.gov and send you an email with a unique PR/Award number for your application.

These emails do not mean that your application is without any disqualifying errors. It is your responsibility to ensure that your submitted application has met all of the Department's requirements, including submitting only PDF documents, as prescribed in this notice and in the application instructions.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Brian Martin, U.S. Department of Education, 400 Maryland Avenue SW., Room 4W224, Washington, DC 20202-5970. FAX: (202) 205-9085.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education,

Application Control Center,

Attention: CFDA Number 84.282N,

LBJ Basement Level 1,

400 Maryland Avenue SW.,

Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address:

U.S. Department of Education,

Application Control Center,

Attention: CFDA Number 84.282N,

550 12th Street SW.,

Room 7039, Potomac Center Plaza,

Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria. The selection criteria for this program are from 34 CFR 75.210. The maximum possible score for addressing all of the criteria in this section is 100 points. The maximum possible score for addressing each criterion is indicated in parentheses following the criterion.

In evaluating an application, the Secretary considers the following criteria:

(a) Significance. (34 CFR 75.210 (b)) (35 points)

(1) The Secretary considers the significance of the proposed project.

(2) In determining the significance of the proposed project, the Secretary considers the following factors—

(i) The national significance of the proposed project.

(ii) The extent to which the results of the proposed project are to be disseminated in ways that will enable others to use the information or strategies.

(iii) The potential contribution of the proposed project to increased knowledge or understanding of educational problems, issues, or effective strategies.

(b) Quality of the project design. (34 CFR 75.210 (c)) (30 points)

(1) The Secretary considers the quality of the design of the proposed project.

(2) In determining the quality of the design of the proposed project, the Secretary considers the following factors—

(i) The extent to which the goals, objectives, and outcomes to be achieved by the proposed project are clearly specified and measurable.

(ii) The extent to which the proposed project is supported by strong theory (as defined in 34 CFR 77.1(c)).

(iii) The extent to which the proposed project represents an exceptional approach to the priority or priorities established for the competition.

Note: The Secretary encourages the applicant to discuss how its proposed project addresses the absolute priority to which the applicant has responded.

(iv) The likelihood that the services to be provided by the proposed project will lead to improvements in the achievement of students as measured against rigorous academic standards.

(c) Quality of project personnel. (34 CFR 75.210 (e)) (10 points)

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers—

(i) The qualifications, including relevant training and experience, of the project director or principal investigator.

(ii) The qualifications, including relevant training and experience, of key project personnel.

(d) Quality of the management plan. (34 CFR 75.210 (g)) (15 points)

(1) The Secretary considers the quality of the management plan for the proposed project.

(2) In determining the quality of the management plan for the proposed project, the Secretary considers the following factors—

(i) The adequacy of the management plan to achieve the objectives of the proposed project on time and within budget, including clearly defined responsibilities, timelines, and milestones for accomplishing project tasks.

(ii) The adequacy of procedures for ensuring feedback and continuous improvement in the operation of the proposed project.

(e) Quality of the project evaluation. (34 CFR 75.210 (h)) (10 points)

(1) The Secretary considers the quality of the evaluation to be conducted of the proposed project.

(2) In determining the quality of the evaluation, the Secretary considers the following factors—

(i) The extent to which the methods of evaluation include the use of objective performance measures that are clearly related to the intended outcomes of the project and will produce quantitative and qualitative data to the extent possible.

(ii) The extent to which the methods of evaluation will, if well-implemented, produce evidence of promise (as defined in 34 CFR 77.1(c)).

(iii) The extent to which the methods of evaluation will provide valid and reliable performance data on relevant outcomes.

Note: The Secretary encourages the applicant to describe how evaluation activities will contribute to research and the knowledge base in the field regarding the project's focus area.

2. Review and Selection Process:

Note: The Secretary may separately consider for funding applications meeting Absolute Priority 1 and those meeting Absolute Priority 2.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: (a) Program Performance Measures. The goal of the CSP is to increase national understanding of the charter school model by providing financial assistance for the planning, program design, and initial implementation of charter schools; evaluating the effects of charter schools, including the effects on students, student academic achievement, staff, and parents; expanding the number of high-quality charter schools available to students across the Nation; and encouraging the States to provide support to charter schools for facilities financing in an amount that is more commensurate with the amount the States have typically provided for non-chartered public schools.

The Secretary has two performance indicators to measure progress towards this goal: (1) The number of charter schools in operation around the Nation, and (2) the percentage of fourth- and eighth-grade charter school students who are achieving at or above the proficient level on State assessments in mathematics and reading/language arts. Additionally, the Secretary has established the following measure to examine the efficiency of the CSP: Federal cost per student in implementing a successful school (defined as a school in operation for three or more consecutive years).

All grantees will be expected, as applicable, to submit an annual performance report documenting their contribution in assisting the Department in meeting these performance measures.

(b) Project-Specific Performance Measures. Applicants must propose project-specific performance measures and performance targets consistent with the objectives of the project. Applications must provide the following information as required under 34 CFR 75.110(b)-(c):

(1) Performance measures. How each proposed performance measure would accurately measure the performance of the project and how the proposed performance measure would be consistent with the performance measures established for the program funding the competition.

(2) Baseline data. (i) Why each proposed baseline is valid; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

Note: The Secretary expects the applicant to consider measures and targets tied to their grant activities. The measures and targets should be sufficient to gauge the progress throughout the grant period, and show results by the end of the grant period. For technical assistance in developing effective performance measures, applicants are encouraged to review information provided by the Department's Regional Educational Laboratories (RELs). The Department's Regional Educational Laboratories (RELs) seek to build the capacity of States and school districts to incorporate data and research into education decision making. Each REL provides research support and technical assistance to its region but makes learning opportunities available to educators everywhere. For example, the REL Northeast and Islands has created the following resource on logic models: http://relpacific.mcrel.org/ELM.html.

(c) Data Collection and Reporting. The applicant must also describe in the application: (1) the data collection and reporting methods the applicant would use and why those methods are likely to yield reliable, valid, and meaningful performance data, and (2) the applicant's capacity to collect and report reliable, valid, and meaningful performance data, as evidenced by high-quality data collection, analysis, and reporting in other projects or research.

Note: If the applicant does not have experience with collection and reporting of performance data through other projects or research, it should provide other evidence of its capacity to successfully carry out data collection and reporting for its proposed project.

All grantees must submit an annual performance report with information that is responsive to these performance measures.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Brian Martin, U.S. Department of Education, 400 Maryland Avenue SW., Room 4W224, Washington, DC 20202-5970. Telephone: (202) 205-9085 or by email: brian.martin@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 9, 2014.
Nadya Chinoy Dabby,
Assistant Deputy Secretary for Innovation and Improvement.

[FR Doc. 2014-16456 Filed 7-11-14; 8:45 am]

BILLING CODE 4000-01-P